ENVIRONMENTAL PROTECTION AGENCY

[EPA-HQ-OAR-2021-0669; FRL-9116-06-OAR]

Phasedown of Hydrofluorocarbons: Notice of 2025 Allowance Allocations for Production and Consumption of Regulated Substances Under the American Innovation and Manufacturing Act of 2020, and Notice of Final Actions Establishing Administrative Consequences

AGENCY: Environmental Protection Agency (EPA).

ACTION: Notice.

SUMMARY: The Environmental Protection Agency (EPA) has issued calendar year 2025 allowances for the production and consumption of hydrofluorocarbons in accordance with the Agency's regulations. This issuance of allowances is undertaken pursuant to the American Innovation and Manufacturing Act, which directs the Environmental Protection Agency by October 1 of each calendar year to determine the quantity of production and consumption allowances for the following calendar year. In this notice, the Agency is also providing notice of separate Agency actions previously taken to establish administrative consequences for specific entities. These previously finalized actions withheld, retired, or revoked the identified entities' newly-issued calendar year 2025 allowances in accordance with the administrative consequence regulatory provisions.

FOR FURTHER INFORMATION CONTACT: Andy Chang, U.S. Environmental Protection Agency, Stratospheric Protection Division, telephone number: 202-564-6658; email address: chang.andy@epa.gov. You may also visit EPA's website at https://www.epa.gov/climate-hfcs-reduction for further information.

SUPPLEMENTARY INFORMATION: Subsection (e)(2)(D)(i) of the American Innovation and Manufacturing Act of 2020 (AIM Act) directs the Environmental Protection Agency (EPA) to determine, by October 1 of each calendar year, the quantity of allowances for the production and consumption of regulated substances that may be used for the following calendar year. EPA has codified the production and consumption baselines and phasedown schedules for regulated substances in 40 CFR 84.7. Under the phasedown schedule, for 2025, total production allowances may not exceed 229,521,263 metric tons of exchange value equivalent (MTEVe) and total consumption allowances may not exceed 181,522,990 MTEVe.

EPA regulations at 40 CFR part 84, subpart A, outline the process by which the Agency determines the number of allowances each entity is allocated. EPA allocated allowances consistent with the regulatory requirements, and has posted entity-specific allowance allocations on its website at https://www.epa.gov/climate-hfcs-reduction. An allowance allocated under the AIM Act does not constitute a property right and is a limited authorization for the production or consumption of a regulated substance.

Note that while allowances may be transferred or conferred once they are allocated, they can only be expended to cover imports and production in the calendar year for which they are allocated. In other words, calendar year 2025 allowances may only be expended for production and import of bulk HFCs between January 1, 2025, and December 31, 2025.

Application-Specific Allowances

EPA established the methodology for issuing application-specific allowances in the 2021 final rule titled Phasedown of Hydrofluorocarbons: Establishing the Allowance Allocation and Trading Program Under the American Innovation and Manufacturing Act (86 FR 55116, Oct. 5, 2021) and codified the methodology for allocations in 40 CFR 84.13. Because application-specific allowances can be expended to either produce or import HFCs, and application-specific allowances must be provided from within the overall annual production and consumption caps, EPA subtracts the amount of application-specific allowances allocated from both the production and consumption general allowance pools. EPA issues application-specific allowances to end users in five applications established by the AIM Act: propellants in metered dose inhalers (MDIs), defense sprays, structural composite preformed polyurethane foam for marine use and trailer use, etching of semiconductor material or wafers and the cleaning of chemical vapor deposition chambers within the semiconductor manufacturing sector, and onboard aerospace fire suppression. Additionally, EPA issues application-specific allowances to the U.S. Department of Defense for mission-critical military end uses.

Applying the methodology codified in 40 CFR 84.13, EPA allocated the number of application-specific allowances shown in Table 1.

Table 1—Number of Calendar Year 2025 Application-Specific Allowances Allocated Per Entity
Entity | Application | Application-specific allowances (MTEVe) allocated
Analog Devices | Semiconductors | 15,998.9
Applied Materials | Semiconductors | 2,290.4
Armstrong Pharmaceuticals | Propellants in MDIs | 237,054.0
ASML US | Semiconductors | 1,033.8
AstraZeneca Pharmaceuticals | Propellants in MDIs | 2,677.0
Aurobindo Pharma USA | Propellants in MDIs | 23,196.2
Compsys | Structural Composite Preformed Polyurethane Foam | 16,066.0
Defense Technology | Defense Sprays | 5,297.2
Diodes Incorporated | Semiconductors | 1,410.2
General Electric | Semiconductors | 147.7
GlaxoSmithKline | Propellants in MDIs | 507,289.7
GlobalFoundries | Semiconductors | 117,767.1
Hitachi High-Tech America | Semiconductors | 113.0
IBM Corporation | Semiconductors | 613.0
Intel Corporation | Semiconductors | 528,200.3
Invagen Pharmaceuticals | Propellants in MDIs | 59,385.2
Jireh Semiconductor | Semiconductors | 2,315.5
Keysight Technologies | Semiconductors | 538.8
Kindeva Drug Delivery | Propellants in MDIs | 492,000.0
LA Semiconductor | Semiconductors | 2,067.3
Lam Research Corp. | Semiconductors | 45,436.9
Lupin | Propellants in MDIs | 19,031.0
Magic Leap | Semiconductors | 516.9
Medtronic Tempe Campus | Semiconductors | 455.1
Microchip Technology | Semiconductors | 7,387.2
Micron Technology | Semiconductors | 21,068.2
Newport Fab DBA TowerJazz | Semiconductors | 4,250.5
Northrop Grumman Corporation | Semiconductors | 2,793.6
NXP Semiconductor | Semiconductors | 34,081.1
Polar Semiconductor | Semiconductors | 9,151.7
Proteng Distribution | Onboard Aerospace Fire Suppression | 6,723.4
Qorvo Texas | Semiconductors | 470.0
Renesas Electronics America | Semiconductors | 940.1
Samsung Austin Semiconductor | Semiconductors | 235,624.8
Security Equipment Corporation | Defense Sprays | 93,229.5
Semiconductor Components Industries DBA ON Semiconductor | Semiconductors | 35,794.8
SkyWater Technology | Semiconductors | 10,463.5
Skyworks Solutions | Semiconductors | 2,067.6
Taiwan Semiconductor Manufacturing Company Arizona Corporation (TSMC Arizona Corporation) | Semiconductors | 120,485.4
Texas Instruments | Semiconductors | 214,219.4
The Research Foundation for The State University of New York at NY CREATES | Semiconductors | 11,678.4
Tokyo Electron U.S. Holdings | Semiconductors | 5,123.9
Tower Semiconductor San Antonio | Semiconductors | 3,290.4
TSMC Washington (formerly WaferTech) | Semiconductors | 10,384.5
UC San Diego | Semiconductors | 940.1
UDAP Industries | Defense Sprays | 110,727.8
Wabash National Corporation | Structural Composite Preformed Polyurethane Foam | 49,299.5
Wolfspeed | Semiconductors | 15,779.7
X-FAB Texas | Semiconductors | 1,262.5
Department of Defense | Mission-critical Military End Uses | 6,238,033.5
Total Issued | All | 9,326,172.3

General Pool Allowances

EPA's 2023 final rule titled Phasedown of Hydrofluorocarbons: Allowance Allocation Methodology for 2024 and Later Years (88 FR 46836, July 20, 2023) updated the methodology for how the Agency would issue production and consumption allowances for 2024 through 2028. These updates are codified in 40 CFR 84.9 (production) and 40 CFR 84.11 (consumption), and EPA is issuing allowances to entities who meet the criteria in the regulations, including those who were previously issued consumption allowances as new market entrants pursuant to 40 CFR 84.15.

Applying the methodology codified in 40 CFR 84.9, EPA allocated the number of production allowances shown in Table 2.

Table 2—Number of Calendar Year 2025 Production Allowances Allocated per Entity
Entity | Production allowances allocated (MTEVe)
Application-specific allowances | ᵃ 9,326,172.3
Arkema | 26,569,642.0
Chemours | 49,257,821.8
Honeywell International | 111,508,876.7
Iofina Chemical | 1,142.5
Mexichem Fluor DBA Koura | 32,857,607.7
Total Issued | 229,521,263.0
ᵃ See Table 1; this value corresponds to the total number of application-specific allowances allocated.

Applying the methodology codified in 40 CFR 84.11, EPA allocated the number of consumption allowances shown in Table 3.

Table 3—Number of Calendar Year 2025 Consumption Allowances Allocated per Entity
Entity | Consumption allowances allocated (MTEVe)
Application-specific allowances | ᵃ 9,326,172.3
A.C.S. Reclamation & Recovery (Absolute Chiller Services) | 126,446.8
Ability Refrigerants | 126,446.8
ACT Commodities | 49.2
Advance Auto Parts | 452,130.1
Advanced Specialty Gases | 180,476.2
AFK & Co. | 122,233.6
AFS Cooling | 126,446.8
A-Gas | 2,156,453.7
Air Liquide USA | 315,346.4
American Air Components | 126,446.8
Arkema | 19,656,867.3
Artsen | 649,992.4
Automart Distributors DBA Refrigerant Plus | 126,446.8
AutoZone Parts | 1,278,314.6
AW Product Sales & Marketing | 76,455.4
Bluon | 21,165.2
CC Packaging | 122,653.4
Chemours | 21,679,708.6
Chemp Technology | 126,446.8
ChemPenn | 14,060.4
ComStar International | 227,930.8
Creative Solution | 126,446.8
Cross World Group | 126,446.8
Daikin America | 1,974,152.3
EDX Industry | 363,578.9
Electronic Fluorocarbons | 65,968.2
Fireside Holdings DBA American Refrigerants | 126,433.2
First Continental International | 486,962.7
FluoroFusion Specialty Chemicals | 1,614,609.9
Freskoa USA | 126,446.8
GlaxoSmithKline | 340,497.3
Golden Refrigerant | 126,446.8
Harp USA | 484,265.5
Honeywell International | 52,089,837.5
Hudson Technologies | 2,129,502.6
Hungry Bear | 126,446.8
ICool USA | 2,155,102.6
IGas Holdings | 16,514,965.1
Iofina Chemical | 800.3
Kidde-Fenwal | 126,446.8
Lenz Sales & Distribution | 702,334.8
Lina Trade | 126,446.8
Linde | 336,839.5
Matheson Tri-Gas | 21,582.0
MEK Chemical Corporation | 52,517.1
Meraki Group | 126,446.8
Metalcraft | 101,789.7
Mexichem Fluor DBA Koura | 16,117,355.6
Mondy Global | 201,598.7
National Refrigerants | 12,528,840.8
Nature Gas Import and Export | 518,455.3
North American Refrigerants | 126,446.8
O23 Energy Plus | 126,446.8
Perfect Score Too DBA Perfect Cycle | 23,946.5
Reclamation Technologies | 378,076.0
Resonac America | 42,007.0
RGAS | 2,893,842.3
RMS of Georgia | 1,042,507.0
Sciarra Laboratories | 5,500.4
SDS Refrigerant Services | 126,446.8
Solvay Fluorides | 697,362.9
Summit Refrigerants | 126,446.8
SynAgile Corporation | 711.3
Technical Chemical | 2,160,215.3
TradeQuim | 126,446.8
Transocean Offshore Deepwater Drilling | 10.6
Tulstar Products | 464,363.5
Tyco Fire Products | 126,446.8
USSC Acquisition Corp | 83,107.8
Walmart | 1,442,587.7
Waysmos USA | 354,712.2
Wego Chemical Group | 35,773.6
Weitron | 4,009,333.5
Wesco HMB | 126,446.8
Wilhelmsen Ships Service | 25,550.4
Total Issued | 181,522,990.0
ᵃ See Table 1; this value corresponds to the total number of application-specific allowances allocated.

Administrative Consequences

Separate from the allocation of calendar year 2025 allowances, EPA hereby provides notice that it also took final actions establishing administrative consequences for specific entities. Each action, which EPA took through a letter issued to the relevant entity, is a separate final action informing the recipient entity of an administrative consequence. The requirements pertaining to administrative consequences are codified in 40 CFR 84.35. Under this provision, EPA can retire, revoke, or withhold the allocation of allowances, or ban an entity from receiving, transferring, or conferring allowances. A retired allowance is one that must go unused and expire at the end of the year; a revoked allowance is one that EPA takes back from an allowance holder and redistributes to all the other eligible allowance holders; and a withheld allowance is one that is retained by the Agency until an allowance holder that has failed to meet a regulatory requirement comes back into compliance, at which point EPA allocates it to the allowance holder. More information on EPA's approach to administrative consequences can be found at 86 FR 55168.

EPA finalized administrative consequences for certain entities that were allocated application-specific allowances, listed in Table 1 for calendar year 2025. These entities failed to submit auditing reports as required in 40 CFR 84.33 and therefore EPA has withheld a portion of their allowances until the missing reports are submitted and subsequently verified by EPA: ASML US,¹ Proteng Distribution, and Wolfspeed. These final actions became effective on September 30, 2024, and are summarized below in Table 4.

¹ ASML US submitted an auditing report on September 27, 2024, and the Agency is reviewing that submission.

Table 4—Summary of Administrative Consequences Taken Pursuant to 40 CFR 84.35 for Calendar Year 2025 Application-Specific Allowances, Effective September 30, 2024
Entity | Number of affected allowances (MTEVe) | Administrative consequence action | Reasoning
ASML US ᵃ | 206.8 | Withhold | Failure to submit auditing report as required in 40 CFR 84.33.
Proteng Distribution | 1,344.7 | Withhold | Failure to submit auditing report as required in 40 CFR 84.33.
Wolfspeed | 3,155.9 | Withhold | Failure to submit auditing report as required in 40 CFR 84.33.
ᵃ ASML US submitted an auditing report on September 27, 2024, and the Agency is reviewing that submission.

EPA finalized additional administrative consequences for certain entities that were allocated consumption allowances, as listed in Table 3 for calendar year 2025. These final actions affecting calendar year 2025 allowances became effective on September 30, 2024. Specifically, the following entities failed to submit auditing reports as required in 40 CFR 84.33 and therefore EPA has withheld a portion of their consumption allowances until the missing reports are filed and verified by EPA: Solvay Fluorides and Wilhelmsen Ships Service. The following entities imported regulated HFCs without expending the requisite number of consumption allowances at the time of import and therefore EPA has retired and/or revoked consumption allowances commensurate with the quantities of regulated substances imported without allowances: AFK & Co. and AutoZone Parts. Lastly, Wesco HMB sold, distributed, or offered for sale or distribution, regulated HFCs that had previously been imported in violation of EPA's import requirements contained in 40 CFR 84.5(b). A summary of these administrative consequences is included in Table 5.

Table 5—Summary of Administrative Consequences Pursuant to 40 CFR 84.35 for Calendar Year 2025 Consumption Allowances, Effective September 30, 2024
Entity | Number of affected allowances (MTEVe) | Administrative consequence action | Reasoning
AFK & Co. | 941.4 ᵃ 706.1 | Retire Revoke | Imported regulated HFCs without expending requisite number of allowances.
AutoZone Parts | 21,763.1 ᵇ 10,881.6 | Retire Revoke | Imported regulated HFCs without expending requisite number of allowances.
Wesco HMB | 5,432.1 ᶜ 2,716.1 | Retire Revoke | Sold, distributed, or offered for sale or distribution regulated HFCs that were imported without the requisite expenditure of allowances.
Solvay Fluorides | 139,472.6 | Withhold | Failure to submit auditing report as required in 40 CFR 84.33.
Wilhelmsen Ships Service | 5,110.1 | Withhold | Failure to submit auditing report as required in 40 CFR 84.33.
ᵃ This value corresponds to 75% of the full amount of consumption without requisite allowances at the time of import. As stated in the HFC Allocation Framework Rule (86 FR 55116, Oct. 5, 2021), EPA explained it would take a 50% premium in first instances of administrative consequences. However, EPA has previously finalized administrative consequences for AFK & Co. for the same reasoning.
ᵇ As stated in the HFC Allocation Framework Rule (86 FR 55116, Oct. 5, 2021), EPA explained it would take a 50% premium in first instances of administrative consequences. This value corresponds to 50% of the full amount of consumption without requisite allowances at the time of import.
ᶜ As stated in the HFC Allocation Framework Rule (86 FR 55116, Oct. 5, 2021), EPA explained it would take a 50% premium in first instances of administrative consequences. This value corresponds to 50% of the full amount of regulated HFCs on a MTEVe-weighted basis that were sold, distributed, or offered for sale or distribution.

The Agency also finalized administrative consequences for Fike Corporation and Firetrace USA. These entities have historically submitted requests for additional consumption allowances (RACAs) under EPA's regulations contained in 40 CFR 84.17, and failed to submit auditing reports as required in 40 CFR 84.33. Therefore, EPA will withhold a portion of any calendar year 2025 consumption allowances issued to these entities until the missing reports are submitted and subsequently verified by EPA. A summary is reflected below in Table 6.

Table 6—Summary of Administrative Consequences Pursuant to 40 CFR 84.35 for RACA Submitters, Effective September 30, 2024
Entity | Number of affected allowances (MTEVe) | Applicable year(s) | Administrative consequence action | Reasoning
Fike Corporation | 20% of granted RACAs | 2025 | Withhold | Failure to submit auditing report as required in 40 CFR 84.33.
Firetrace USA | 20% of granted RACAs | 2025 | Withhold | Failure to submit auditing report as required in 40 CFR 84.33.

A comprehensive summary of all finalized administrative consequences with an effective date of September 30, 2024, that affect calendar year 2025 HFC allowances is contained in Table 7.

Table 7—Calendar Year 2025 Allowances Adjusted Through Finalized Administrative Consequences Pursuant to 40 CFR 84.35
Entity | Allowance type | Administrative consequence action | Number of affected allowances (MTEVe)
AFK & Co. | Consumption | Retire | 941.4
|  | Revoke | 706.1
ASML US ᵃ | Application-specific | Withhold | 206.8
AutoZone Parts | Consumption | Retire | 21,763.1
|  | Revoke | 10,881.6
Fike Corporation | Consumption | Withhold | 20% of granted RACAs
Firetrace USA | Consumption | Withhold | 20% of granted RACAs
Proteng Distribution | Application-specific | Withhold | 1,344.7
Solvay Fluorides | Consumption | Withhold | 139,472.6
Wesco HMB | Consumption | Retire | 5,432.1
|  | Revoke | 2,716.1
Wilhelmsen Ships Service | Consumption | Withhold | 5,110.1
Wolfspeed | Application-specific | Withhold | 3,155.9
ᵃ ASML US submitted an auditing report on September 27, 2024, and the Agency is reviewing that submission.

In addition to the administrative consequences listed in Table 7, 142,694.8 MTEVe of consumption allowances were retired and 509,608.2 MTEVe were revoked, consistent with previously finalized administrative consequences described in Phasedown of Hydrofluorocarbons: Notice of 2024 Allowance Allocations for Production and Consumption of Regulated Substances Under the American Innovation and Manufacturing Act of 2020, and Notice of Final Administrative Consequences (88 FR 72060, Oct. 19, 2023). The entities subject to those prior actions include American Air Components, Bluon, Honeywell International, and Resonac America.

Adjustments to Application-Specific Allowances

As described above, certain entities listed in Table 1 have had a portion of their calendar year 2025 allowances withheld for not submitting the auditing report required in 40 CFR 84.33. These allowances will be withheld until the missing reports are submitted and subsequently verified by EPA. Accordingly, Table 8 shows the number of application-specific allowances available to each entity as a result of finalized administrative consequences.

Table 8—Number of Calendar Year 2025 Application-Specific Allowances Available to Each Entity as of October 1, 2024, Adjusted for Administrative Consequences
Entity | Application | Available application- specific allowances (MTEVe), adjusting for administrative consequences
Analog Devices | Semiconductors | 15,998.9
Applied Materials | Semiconductors | 2,290.4
Armstrong Pharmaceuticals | Propellants in MDIs | 237,054.0
ASML US ᵃ | Semiconductors | 827.0
AstraZeneca Pharmaceuticals | Propellants in MDIs | 2,677.0
Aurobindo Pharma USA | Propellants in MDIs | 23,196.2
Compsys | Structural Composite Preformed Polyurethane Foam | 16,066.0
Defense Technology | Defense Sprays | 5,297.2
Diodes Incorporated | Semiconductors | 1,410.2
General Electric | Semiconductors | 147.7
GlaxoSmithKline | Propellants in MDIs | 507,289.7
GlobalFoundries | Semiconductors | 117,767.1
Hitachi High-Tech America | Semiconductors | 113.0
IBM Corporation | Semiconductors | 613.0
Intel Corporation | Semiconductors | 528,200.3
Invagen Pharmaceuticals | Propellants in MDIs | 59,385.2
Jireh Semiconductor | Semiconductors | 2,315.5
Keysight Technologies | Semiconductors | 538.8
Kindeva Drug Delivery | Propellants in MDIs | 492,000.0
LA Semiconductor | Semiconductors | 2,067.3
Lam Research Corp. | Semiconductors | 45,436.9
Lupin | Propellants in MDIs | 19,031.0
Magic Leap | Semiconductors | 516.9
Medtronic Tempe Campus | Semiconductors | 455.1
Microchip Technology | Semiconductors | 7,387.2
Micron Technology | Semiconductors | 21,068.2
Newport Fab DBA TowerJazz | Semiconductors | 4,250.5
Northrop Grumman Corporation | Semiconductors | 2,793.6
NXP Semiconductor | Semiconductors | 34,081.1
Polar Semiconductor | Semiconductors | 9,151.7
Proteng Distribution | Onboard Aerospace Fire Suppression | 5,378.7
Qorvo Texas | Semiconductors | 470.0
Renesas Electronics America | Semiconductors | 940.1
Samsung Austin Semiconductor | Semiconductors | 235,624.8
Security Equipment Corporation | Defense Sprays | 93,229.5
Semiconductor Components Industries DBA ON Semiconductor | Semiconductors | 35,794.8
SkyWater Technology | Semiconductors | 10,463.5
Skyworks Solutions | Semiconductors | 2,067.6
Taiwan Semiconductor Manufacturing Company Arizona Corporation (TSMC Arizona Corporation) | Semiconductors | 120,485.4
Texas Instruments | Semiconductors | 214,219.4
The Research Foundation for The State University of New York at NY CREATES | Semiconductors | 11,678.4
Tokyo Electron U.S. Holdings, Inc. | Semiconductors | 5,123.9
Tower Semiconductor San Antonio | Semiconductors | 3,290.4
TSMC Washington (formerly WaferTech) | Semiconductors | 10,384.5
UC San Diego | Semiconductors | 940.1
UDAP Industries | Defense Sprays | 110,727.8
Wabash National Corporation | Structural Composite Preformed Polyurethane Foam | 49,299.5
Wolfspeed | Semiconductors | 12,623.8
X-FAB Texas | Semiconductors | 1,262.5
Department of Defense | Mission-critical Military End Uses | 6,238,033.5
Total Available | All | 9,321,464.9
ᵃ ASML US submitted an auditing report on September 27, 2024, and the Agency is reviewing that submission.

Adjustments to Consumption Allowances

An entity is eligible to receive redistributed allowances if they were not subject to administrative consequences that took effect on the same day (except entities that had allowances withheld). For example, if EPA revoked 50 MTEVe allowances from company A and 50 MTEVe allowances from company B, effective on the same day, EPA's redistribution of that single pool of 100 MTEVe allowances would go to all general pool allowances holders except company A and company B. This applies regardless of whether the revocation happens in one year or over multiple years. However, entities who only had allowances withheld by the Agency as a result of failure to comply with the auditing requirements as contained in 40 CFR 84.33 were eligible to receive allowances that were redistributed.

For 2025, the total number of revoked and redistributed allowances is 523,912.0 MTEVe, which are being apportioned to eligible consumption allowance holders based on their relative market share, and the total number of retired allowances in 2025 is 170,831.4 MTEVe. These amounts are the result of administrative consequences with two distinct effective dates. For more information on the administrative consequences finalized in 2023 that impact calendar year 2025 consumption allowances, see Phasedown of Hydrofluorocarbons: Notice of 2024 Allowance Allocations for Production and Consumption of Regulated Substances Under the American Innovation and Manufacturing Act of 2020, and Notice of Final Administrative Consequences (88 FR 72060, Oct. 19, 2023).

Table 9 reflects consumption allowance totals available to each entity as of October 1, 2024, after taking into account the administrative consequences and eligibility described elsewhere in this notice.

Table 9—Total Number of Calendar Year 2025 Consumption Allowances Available to Each Entity as of October 1, 2024, Adjusted for Administrative Consequences
Entity | Available consumption allowances, adjusted for all administrative consequences (MTEVe)
Application-specific allowances | ᵃ 9,321,464.9
A.C.S. Reclamation & Recovery (Absolute Chiller Services) | 127,006.0
Ability Refrigerants | 127,006.0
ACT Commodities | 49.4
Advance Auto Parts | 454,129.5
Advanced Specialty Gases | 181,274.3
AFK & Co | 120,586.1
AFS Cooling | 127,006.0
A-Gas | 2,165,990.0
Air Liquide USA | 316,740.9
American Air Components ᵇ | 0.0
Arkema | 19,743,794.0
Artsen | 650,046.9
Automart Distributors DBA Refrigerant Plus | 127,006.0
AutoZone Parts | 1,251,215.7
AW Product Sales & Marketing | 76,793.5
Bluon ᵇ | 0.0
CC Packaging | 123,195.8
Chemours | 21,775,580.8
Chemp Technology | 127,006.0
ChemPenn | 14,122.6
ComStar International | 228,938.8
Creative Solution | 127,006.0
Cross World Group | 127,006.0
Daikin America | 1,982,882.5
EDX Industry | 365,186.7
Electronic Fluorocarbons | 65,973.7
Fireside Holdings DBA American Refrigerants | 126,992.3
First Continental International | 489,116.1
FluoroFusion Specialty Chemicals | 1,614,745.2
Freskoa USA | 127,006.0
GlaxoSmithKline | 342,003.0
Golden Refrigerant | 127,006.0
Harp USA | 486,407.0
Honeywell International | 51,631,535.0
Hudson Technologies | 2,138,919.7
Hungry Bear | 127,006.0
ICool USA | 2,164,632.9
IGas Holdings | 16,587,997.7
Iofina Chemical | 803.9
Kidde-Fenwal | 127,006.0
Lenz Sales & Distribution | 705,440.7
Lina Trade | 127,006.0
Linde | 338,329.0
Matheson Tri-Gas | 21,677.4
MEK Chemical Corporation | 52,749.3
Meraki Group | 127,006.0
Metalcraft | 102,239.8
Mexichem Fluor DBA Koura | 16,188,629.9
Mondy Global | 202,490.2
National Refrigerants | 12,584,245.9
Nature Gas Import and Export | 520,748.2
North American Refrigerants | 127,006.0
O23 Energy Plus | 127,006.0
Perfect Score Too DBA Perfect Cycle | 24,052.4
Reclamation Technologies | 379,747.9
Resonac America ᵇ | 0.0
RGAS | 2,906,639.4
RMS of Georgia | 1,047,117.2
Sciarra Laboratories | 5,524.8
SDS Refrigerant Services | 127,006.0
Solvay Fluorides | 560,974.1
Summit Refrigerants | 127,006.0
SynAgile Corporation | 714.5
Technical Chemical | 2,169,768.2
TradeQuim | 127,006.0
Transocean Offshore Deepwater Drilling | 10.6
Tulstar Products | 466,417.0
Tyco Fire Products | 127,006.0
USSC Acquisition Corp | 83,475.4
Walmart | 1,448,967.1
Waysmos USA | 356,280.8
Wego Chemical Group | 35,931.8
Weitron | 4,027,063.6
Wesco HMB | 118,847.2
Wilhelmsen Ships Service | 20,553.2
ᵃ See Table 8; this value corresponds to the total number of application-specific allowances available on October 1, 2024, after adjusting for administrative consequences.
ᵇ While these entities were eligible for revoked and redistributed consumption allowances with an effective date of September 30, 2024, the Agency has previously finalized administrative consequences for them stating that “[EPA] [w]ill retire and revoke allowances until the full administrative consequence is covered” (88 FR 72060, Oct. 19, 2023).

Judicial Review

The AIM Act provides that certain sections of the Clean Air Act (CAA) “shall apply to” the AIM Act and actions “promulgated by the Administrator of [EPA] pursuant to [the AIM Act] as though [the AIM Act] were expressly included in title VI of [the CAA].” 42 U.S.C. 7675(k)(1)(C). Among the applicable sections of the CAA is section 307, which includes provisions governing judicial review. 42 U.S.C. 7607(b)(1). Section 307(b)(1) provides, in part, that petitions for review must only be filed in the United States Court of Appeals for the District of Columbia Circuit: (i) When the agency action consists of “nationally applicable regulations promulgated, or final actions taken, by the Administrator,” or (ii) when such action is locally or regionally applicable, but “such action is based on a determination of nationwide scope or effect and if in taking such action the Administrator finds and publishes that such action is based on such a determination.” For locally or regionally applicable final actions, the CAA reserves to the EPA complete discretion whether to invoke the exception in (ii).

The issuance of calendar year 2025 allowances for the production and consumption of hydrofluorocarbons herein noticed is “nationally applicable” within the meaning of CAA section 307(b)(1). The AIM Act imposes a national cap on the total number of allowances available for each year for all entities nationwide. 42 U.S.C. 7675(e)(2)(B)-(D). For 2025, there was a national pool of 229,521,263 production allowances and 181,522,990 consumption allowances available to distribute. The allocation action noticed herein distributed that finite set of allowances consistent with the methodology EPA established in the nationally applicable framework rule. As such, the allowance allocation is the division and assignment of a single, nationwide pool of HFC allowances to entities across the country according to the uniform, national methodology established in EPA's regulations. Each entity's allowance allocation is a relative share of that pool; thus, any additional allowances awarded to one entity directly affects the allocations to others.

In the alternative, to the extent a court finds the final action to be locally or regionally applicable, the Administrator is exercising the complete discretion afforded to him under the CAA to make and publish a finding that the allocation action is based on a determination of “nationwide scope or effect” within the meaning of CAA section 307(b)(1).² In deciding to invoke this exception, the Administrator has taken into account a number of policy considerations, including his judgment regarding the benefit of obtaining the D.C. Circuit's authoritative centralized review, rather than allowing development of the issue in other contexts, in order to ensure consistency in the Agency's approach to allocation of allowances in accordance with EPA's national regulations in 40 CFR part 84. The final action treats all affected entities consistently in how the 40 CFR part 84 regulations are applied. The allowance allocation is the division and assignment of a single, nationwide pool of HFC allowances to entities across the country according to the uniform, national methodology established in EPA's regulations, and each entity's allowance allocation is a relative share of that pool; thus, any additional allowances awarded to one entity directly affect the allocations to others. The Administrator finds that this is a matter on which national uniformity is desirable to take advantage of the D.C. Circuit's administrative law expertise and facilitate the orderly development of the basic law under the AIM Act and EPA's implementing regulations. The Administrator also finds that consolidated review of the action in the D.C. Circuit will avoid piecemeal litigation in the regional circuits, further judicial economy, and eliminate the risk of inconsistent results for different regulated entities. The Administrator also finds that a nationally consistent approach to the allocation of allowances constitutes the best use of agency resources. The Administrator is publishing his finding that the allocation action is based on a determination of nationwide scope or effect in the Federal Register as part of this notice.

² In the report on the 1977 Amendments that revised section 307(b)(1) of the CAA, Congress noted that the Administrator's determination that the “nationwide scope or effect” exception applies would be appropriate for any action that has a scope or effect beyond a single judicial circuit. See H.R. Rep. No. 95-294 at 323, 324, reprinted in 1977 U.S.C.C.A.N. 1402-03.

For these reasons, the final action of the Agency allocating hydrofluorocarbon allowances to entities located throughout the country is nationally applicable or, alternatively, the Administrator is exercising the complete discretion afforded to him by the CAA and finds that the final action is based on a determination of nationwide scope or effect for purposes of CAA section 307(b)(1) and is hereby publishing that finding in the Federal Register.

Under section 307(b)(1) of the CAA, petitions for judicial review of this allocation action must be filed in the United States Court of Appeals for the District of Columbia Circuit by December 23, 2024.

Each adjudicatory action establishing an administrative consequence as described in this notice is a final action previously taken by EPA. Under section 307(b)(1) of the CAA, any petition for judicial review of such a final action must be filed in the United States Court of Appeals for the appropriate circuit by December 23, 2024.

Filing a petition for reconsideration by the Administrator does not affect the finality of any action noticed herein for purposes of judicial review nor does it extend the time within which a petition for judicial review may be filed and shall not postpone the effectiveness of such action. The final actions described herein may not be challenged later in proceedings to enforce their requirements. 42 U.S.C. 7607(b)(2).

Paul M. Gunning,
Director, Office of Atmospheric Protection.

[FR Doc. 2024-24444 Filed 10-22-24; 8:45 am]

BILLING CODE 6560-50-P